DEPARTMENT OF ENERGY

Federal Energy Regulatory Commission

Combined Notice of Filings #1

October 17, 2005.

Take notice that the Commission received the following electric rate filings:

Docket Numbers: ER02-2509-002.

Applicants: Kiowa Power Partners, LLC.

Description: Kiowa Power Partners, LLC's Triennial Updated Market Analysis and revised FERC Electric Rate Schedule No.1, Original Volume No. 1 pursuant to FERC's October 10, 2002 Letter Order.

Filed Date: October 11, 2005.

Accession Number: 20051013-0015.

Comment Date: 5 p.m. Eastern Time on Tuesday, November 1, 2005.

Docket Numbers: ER05-649-002; RM02-1-006.

Applicants: South Carolina Electric & Gas Company.

Description: South Carolina Electric & Gas Co submits revised tariff sheets, Open Access Transmission Tariff, Second Revised Volume No. 5 pursuant to FERC's September 23, 2005 Order.

Filed Date: October 11, 2005.

Accession Number: 20051013-0007.

Comment Date: 5 p.m. Eastern Time on Tuesday, November 1, 2005.

Docket Numbers: ER05-903-003.

Applicants: Consolidated Edison Energy of Massachusetts, Inc.

Description: Consolidated Edison Energy Massachusetts, Inc. submits a clean revised version of its Reliability Must Run Agreement et al.

Filed Date: October 11, 2005.

Accession Number: 20051014-0109.

Comment Date: 5 p.m. Eastern Time on Tuesday, November 1, 2005.

Docket Numbers: ER05-938-002.

Applicants: Southern Company Services, Inc.

Description: Southern Company Services, Inc. as agent for Alabama Power Co et al submits its responses to FERC Staff's August 15, 2005 request for additional information.

Filed Date: October 11, 2005.

Accession Number: 20051013-0014.

Comment Date: 5 p.m. Eastern Time on Tuesday, November 1, 2005.

Docket Numbers: ER06-24-000.

Applicants: California Independent System Operator Corporation.

Description: California Independent System Operator Corp. submits an amendment to the responsible Participating Transmission Owner Agreement with Pacific Gas and Electric Co, to be effective December 1, 2005.

Filed Date: October 11, 2005.

Accession Number: 20051013-0080.

Comment Date: 5 p.m. Eastern Time on Tuesday, November 01, 2005.

Docket Numbers: ER06-26-000.

Applicants: Wrightsville Power Facility, L.L.C.

Description: Wrightsville Power Facility, LLC cancels its FERC Electric Tariff, Original Volume No. 1, effective September 28, 2005.

Filed Date: October 11, 2005.

Accession Number: 20051013-0072.

Comment Date: 5 p.m. Eastern Time on Tuesday, November 1, 2005.

Docket Numbers: ER06-28-000.

Applicants: PJM Interconnection, L.L.C.

Description: PJM Interconnection, LLC submits revisions to Parts I and IV and Attachments N, N-1 & N-2 et al, and S of its Open Access Transmission Tariff.

Filed Date: October 11, 2005.

Accession Number: 20051014-0196.

Comment Date: 5 p.m. Eastern Time on Tuesday, November 1, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E5-5804 Filed 10-20-05; 8:45 am]

BILLING CODE 6717-01-P